DEPARTMENT OF COMMERCE

International Trade Administration

[A-533-824, A-583-837]

Polyethylene Terephthalate Film, Sheet and Strip From India and Taiwan: Preliminary Results of the Second Sunset Review of the Antidumping Duty Orders

AGENCY: Enforcement and Compliance, formerly Import Administration, International Trade Administration, Department of Commerce.

DATES: Effective Date: November 8, 2013.

SUMMARY: On April 2, 2013, the Department of Commerce (“Department”) initiated the second sunset review of the antidumping duty orders on Polyethylene Terephthalate Film, Sheet and Strip (“PET Film”) from India and Taiwan. The Department determined that it was appropriate to conduct full reviews. The Department preliminarily finds that revocation of these antidumping duty orders would be likely to lead to continuation or recurrence of dumping at the rates identified in the “Preliminary Results of Review” section of this notice.

FOR FURTHER INFORMATION CONTACT: Jacqueline Arrowsmith or Myrna Lobo, AD/CVD Operations, Office VII, Enforcement and Compliance, International Trade Administration, U.S. Department of Commerce, 14th Street and Constitution Avenue NW., Washington, DC 20230; telephone (202) 482-5255 or (202) 482-2371, respectively.

SUPPLEMENTARY INFORMATION:

Background

The antidumping duty orders on PET Film from India and Taiwan were published on July 1, 2002.¹ On April 2, 2013, the Department initiated the second sunset review of these orders pursuant to section 751(c) of the Tariff Act of 1930, as amended (“the Act”).² The Department received a notice of intent to participate from DuPont Teijin Films, Mitsubishi Polyester Film, Inc., and SKC, Inc. (collectively, “the domestic interested parties”), within the deadline specified in 19 CFR 351.218(d)(1)(i). DuPont Teijin Films, Mitsubishi Polyester Film, Inc., and SKC, Inc. are manufacturers of a domestic like product in the United States and, accordingly, are domestic interested parties pursuant to section 771(9)(C) of the Act.

¹ See Notice of Amended Final Antidumping Duty Determination of Sales at Less Than Fair Value and Antidumping Duty Order: Polyethylene Terephthalate Film, Sheet, and Strip from India, 67 FR 44175 (July 1, 2002); see also Notice of Amended Final Antidumping Duty Determination of Sales at Less Than Fair Value and Antidumping Duty Order: Polyethylene Terephthalate Film, Sheet, and Strip (PET Film) from Taiwan, 67 FR 44174 (July 1, 2002).

² See Initiation of Five-Year (“Sunset”) Review, 78 FR 19647 (April 2, 2013).

On May 2, 2013, the Department received an adequate substantive response to the notice of initiation from the domestic interested parties within the 30-day deadline specified in 19 CFR 351.218(d)(3)(i). The Department received no response from the respondent interested parties, i.e., PET Film producers and exporters from India and/or Taiwan. On the basis of the notice of intent to participate and adequate substantive response filed by the domestic interested parties and the inadequate response from any respondent interested party, the Department decided to conduct expedited sunset reviews of these orders pursuant to section 751(c)(3)(B) of the Act and 19 CFR 351.218(e)(1)(ii)(C). However, on July 22, 2013, the Department revised its original adequacy determination and determined to conduct full sunset reviews of these orders.³ The Department also extended the deadline for issuing the preliminary results of these full sunset reviews by 90 days, to October 18, 2013.⁴ The reviews were converted to full sunset reviews to provide interested parties with an opportunity to comment concerning the implementation of the Final Modification for Reviews, and the deadline was extended for the preliminary results of these reviews because these reviews are extraordinarily complicated.⁵ On October 18, 2013, the Department issued a tolling memorandum extending all deadlines by 16 days for the duration of the government shutdown.⁶ The deadline for these reviews is now November 4, 2013.

³ See Memorandum to Christian Marsh, Deputy Assistant Secretary for Antidumping and Countervailing Duty Operations, from Mark Hoadley, Acting Director, Office 6, on “Sunset Reviews of the Antidumping Duty Orders on Polyethylene Terephthalate Film from India and Taiwan: Adequacy Redetermination, ” dated July 22, 2013.

⁴ See Polyethylene Terephthalate Film from India and Taiwan: Extension of Time Limits for Preliminary and Final Results of the Second Antidumping Duty Sunset Reviews 78 FR 45512 (July 29, 2013) (“PET Film Extension Notice”).

⁵ See Antidumping Proceedings: Calculation of the Weighted-Average Dumping Margin and Assessment Rate in Certain Antidumping Duty Proceedings; Final Modification for Reviews, 77 FR 8101 (February 14, 2012) (“Final Modification for Reviews”).

⁶ See “Memorandum for The Record from Paul Piquado, Assistant Secretary of Enforcement and Compliance,” dated October 18, 2013 (“Tolling Memorandum”)

Scope of the Orders

The products covered by these orders are all gauges of raw, pretreated or primed PET film, whether extruded or coextruded. Excluded are metallized films and other finished films that have had at least one of their surfaces modified by the application of a performance-enhancing resinous or inorganic layer of more than 0.00001 inches thick. Imports of PET film were classifiable in the Harmonized Tariff Schedule of the United States (“HTSUS”) under item number 3920.62.00. Effective July 1, 2003, the HTSUS subheading 3920.62.00.00 was divided into 3920.62.00.10 (metallized PET film) and 3920.62.00.90 (non-metallized PET film). Although the HTSUS subheadings are provided for the convenience and customs purposes, the written description of the scope of these orders is dispositive. Since these orders were published, there was one scope determination for PET film from India, dated August 25, 2003. In this determination, requested by International Packaging Films Inc., the Department determined that tracing and drafting film is outside of the scope of the order on PET film from India.⁷

⁷ See Notice of Scope Rulings, 70 FR 24533 (May 10, 2005).

Analysis of Comments Received

All issues raised for the preliminary results of these reviews are addressed in the Issues and Decision Memorandum (“Decision Memorandum”) from Edward Yang, Director, Office VII, Office of AD/CVD Operations, to Paul Piquado, Assistant Secretary for Enforcement and Compliance, dated concurrently with this notice. The issues discussed in the Decision Memorandum are the likelihood of continuation or recurrence of dumping, and the magnitude of the margins of dumping likely to prevail if these orders were revoked. The analysis addresses the impact of the Final Modification for Reviews on these reviews. Parties can find a complete discussion of all issues raised in this review and the corresponding recommendations in this public memorandum which is on file electronically via Import Administration's Antidumping and Countervailing Duty Centralized Electronic Service System (IA ACCESS). IA ACCESS is available to registered users at http://iaaccess.trade.gov and is available to all parties in the Central Records Unit in room 7046 of the main Commerce building. In addition, a complete version of the Decision Memorandum can be accessed directly on the Internet at http://trade.gov/enforcement/. The signed Decision Memorandum and electronic versions of the Decision Memorandum are identical in content.

Preliminary Results of Review

Pursuant to sections 752(c)(1) and (3) of the Act, we preliminarily determine that revocation of the antidumping duty orders on PET Film from India and Taiwan would be likely to lead to continuation or recurrence of dumping. Further, we determine that the magnitude of the margins of dumping likely to prevail are as follows:

Exporter or producer | Margin (percent)
Ester Industries Limited, Inc. | 24.10
Polyplex Corporation Limited | 3.02
All Others | 16.96
Nan Ya Plastics Corporation, Ltd. | 8.99
Shinkong Synthetic Fibers Corporation/Shinkong Materials Technology Co., Ltd. | 0.75
All Others | 4.37

Interested parties may submit case briefs no later than 50 days after the date of publication of the preliminary results of these full sunset reviews, in accordance with 19 CFR 351.309(c)(1)(i). Rebuttal briefs, which must be limited to issues raised in the case briefs, may be filed not later than five days after the time limit for filing case briefs in accordance with 19 CFR 351.309(d). Any interested party may request a hearing within 30 days of publication of this notice in accordance with 19 CFR 351.310(c). A hearing, if requested, will be held two days after the date the rebuttal briefs are due. The Department will issue a notice of final results of these full sunset reviews, which will include the results of its analysis of issues raised in any such comments, no later than March 13, 2014.⁸

⁸ See PET Film Extension Notice; see also Tolling Memorandum.

The Department is issuing and publishing these preliminary results and notice in accordance with sections 751(c), 752(c), and 777(i)(1) of the Act.

Dated: November 4, 2013.
Paul Piquado,
Assistant Secretary for Enforcement and Compliance.

[FR Doc. 2013-26851 Filed 11-7-13; 8:45 am]

BILLING CODE 3510-DS-P